DEPARTMENT OF AGRICULTURE

Forest Service

Uinta-Wasatch-Cache National Forest; Utah; Ogden Travel Plan Project

AGENCY: Forest Service, USDA.

ACTION: Notice of Intent to prepare a supplement to the final supplemental Environmental Impact Statement.

SUMMARY: The Ogden Ranger District of the Uinta-Wasatch-Cache National Forest announces its intent to prepare a supplement to the Ogden Travel Plan Revision Final Supplemental Environmental Impact Statement (FSEIS). The Ogden Travel Plan Revision FSEIS evaluated six alternatives for possible travel management of motorized trails and roads.

DATES: Scoping will not be conducted in accordance with 40 CFR 1502.9(c)(4). The draft supplement to the FSEIS is expected in May 2013 and the final supplement to the FSEIS is expected in September 2013.

ADDRESSES: Send written comments to: Renee Flanagan, Ogden District Ranger, 507 25th Street, Ogden, UT 84401. Comments can also be hand delivered Monday through Friday 8 a.m. to 4:30 p.m. at the address above. Comments can be submitted electronically to rflanagan@fs.fed.us or submitted via facsimile to (801) 625-5914.

FOR FURTHER INFORMATION CONTACT: District Ranger Renee Flanagan, (801) 625-5112, Ogden Ranger District, 507 25th Street, Ogden, Utah 84401.

Individuals who use telecommunication devices for the deaf (TDD) may call the Federal Information Relay Service (FIRS) at 1-800-877-8339 between 8 a.m. and 8 p.m., Eastern Time, Monday through Friday.

SUPPLEMENTARY INFORMATION:

Proposed Action

On March 20, 2006, District Ranger Chip Sibbernsen made a decision designating routes open for motorized travel use, seasonal and other closures, development of two gravel sources, improvements to two concentrated use areas, and new trail construction on the Ogden Ranger District. The decision also allowed limited use of motor vehicles within 150 feet of designated roads to access dispersed camping sites.

The record of decision for the project was appealed by four separate parties. After review, the appeal deciding officer reversed the decision, based on her finding that the environmental analysis and supporting information in the project record were not adequate to support the decision in regard to cumulative effects analysis.

Subsequent analysis resulted in a FSEIS that did not replace the final environmental impact statement (FEIS) in its entirety, but which replaced discrete sections of the FEIS and provided additional information to augment the analysis in the FEIS. A record of decision for the FSEIS was signed on September 12, 2007. The record of decision was appealed and the decision was affirmed and implemented.

As a result of litigation, on March 7, 2012, the United States District Court for the District of Utah issued a decision order. The Court held that the record of decision and FSEIS had three deficiencies: (1) It failed to provide notice of available support for the public to understand the information cataloguing illegal routes; (2) it failed to adequately support its assumptions about the impact of illegal user-created routes; and (3) it failed to explain explicitly its evaluation of the cumulative impacts of its decision on the Shoshone Trail system. As a result, the currently proposed supplement to the FSEIS will be directed to address the deficiencies.

Responsible Official

Renee Flanagan, District Ranger, Ogden Ranger District.

Dated: January 3, 2013.
Renee Flanagan,
District Ranger.

[FR Doc. 2013-00565 Filed 1-11-13; 8:45 am]

BILLING CODE 3410-11-P